DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; receipt of application for permit amendment.

SUMMARY: Notice is hereby given the Alaska Department of Fish and Game (ADFG), Division of Wildlife Conservation, Juneau, AK (Principal Investigator: Lori Quakenbush), has applied for an amendment to Scientific Research Permit No. 14610-02.

DATES: Written, telefaxed, or email comments must be received on or before May 9, 2014.

ADDRESSES: The application and related documents are available for review by selecting “Records Open for Public Comment” from the Features box on the Applications and Permits for Protected Species home page, https://apps.nmfs.noaa.gov, and then selecting File No. 14450-01 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Courtney Smith, (301) 427-8401.

SUPPLEMENTARY INFORMATION: The subject amendment to Permit No. 14610-02 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

On April 20, 2010, notice was published in the Federal Register (75 FR 20565) that a request for a permit to conduct research on beluga whales (Delphinapterus leucas), endangered bowhead whales (Balaena mysticetus), gray whales (Eschrictius robustus), and endangered humpback whales (Megaptera novaeangliae) had been submitted by the above-named applicant. The requested permit was issued on May 21, 2010 (75 FR 30383) for the beluga whale and gray whale projects under the authority of the Marine Mammal Protection Act of 1972, as amended (MMPA; 16 U.S.C. 1361 et seq.), and the regulations governing the taking and importing of marine mammals (50 CFR part 216). A decision on the bowhead whale and humpback whale projects was deferred pending completion of consultation under section 7 of the Endangered Species Act of 1973, as amended (ESA; 16 U.S.C. 1531 et seq.).

An amended permit (No. 14610-01) was issued on August 3, 2010 (75 CFR 50748) under the authority of the MMPA, the regulations governing the taking and importing of marine mammals, the ESA, and the regulations governing the taking, importing, and exporting of endangered and threatened species (50 CFR parts 222-226) to include remote biopsy and instrument attachment for bowhead and humpback whales. The amended permit is valid through the expiration date of the original permit, May 31, 2015.

The permit holder is requesting the permit be amended to include authorization for takes during photo-identification efforts to determine stock or feeding group affiliation of gray whales encountered in Alaskan waters (Chukchi and western Beaufort seas). Photo-identification, in addition to currently authorized tagging and biopsy efforts, will allow larger sample sizes to increase knowledge of gray whale movements, habitat use, and behavior relative to industrial activities including oil and gas and shipping in the Arctic. The permit holder is requesting to take up to 300 gray whales per year by harassment during photo-identification efforts, including opportunistic encounters during tagging and biopsy activities, and increase incidental harassment of gray whales by 50 per year. The permit holder is also requesting to alter a current tag attachment method to allow for the attachment of a temporary acoustic tag using a two-anchor system on bowhead whales. This request is to allow for two much shorter anchors with one set of barbs each to be used for the short-term attachment of a base-plate for a temporary acoustic tag. The two anchor attachment is similar to that used by the LIMPET tag that has been used successfully on 13 species of whales. No additional takes are requested for tagging activities. The expiration date of the permit would not change.

In compliance with the National Environmental Policy Act of 1969 (42 U.S.C. 4321 et seq.), an initial determination has been made that the potential environmental impacts of the proposed activity are consistent with the effects in the Environmental Assessment and Finding of No Significant Impact prepared for issuance of a prior version of the permit.

Concurrent with the publication of this notice in the Federal Register, NMFS is forwarding copies of this application to the Marine Mammal Commission and its Committee of Scientific Advisors.

Dated: April 4, 2014.
Tammy C. Adams,
Acting Chief, Permits and Conservation Division, Office of Protected Resources, National Marine Fisheries Service.

[FR Doc. 2014-07956 Filed 4-8-14; 8:45 am]

BILLING CODE 3510-22-P